LIBRARY OF CONGRESS

Copyright Royalty Board

37 CFR Chapter III

[Docket No. 2005-4 CRB CD 2003]

Distribution of the 2003 Cable Royalty Funds

AGENCY: Copyright Royalty Board, Library of Congress.

ACTION: Request for comments.

SUMMARY: The Interim Chief Copyright Royalty Judge, on behalf of the Copyright Royalty Board, is requesting comments on the existence of controversies to the distribution of the 2003 cable royalty fund.

DATES: Written comments should be received no later than October 13, 2005.

ADDRESSES: If hand delivered by a private party, an original and five copies of comments must be brought to Room LM-401 of the James Madison Memorial Building, Monday through Friday, between 8:30 a.m. and 5 p.m., and the envelope must be addressed as follows: Copyright Royalty Board, Library of Congress, James Madison Memorial Building, LM-401, 101 Independence Avenue, SE., Washington, DC 20559-6000. If delivered by a commercial courier (excluding overnight delivery services such as Federal Express, United Parcel Service and similar overnight delivery services), an original and five copies of comments must be delivered to the Congressional Courier Acceptance Site located at 2nd and D Streets, NE., Monday through Friday, between 8:30 a.m. and 4 p.m., and the envelope must be addressed as follows: Copyright Royalty Board, Library of Congress, James Madison Memorial Building, LM-403, 101 Independence Avenue, SE., Washington, DC 20559-6000. If sent by mail (including overnight delivery using United States Postal Service Express Mail), an original and five copies of comments must be addressed to: Copyright Royalty Board, P.O. Box 70977, Southwest Station, Washington, DC 20024-0977. Comments may not be delivered by means of overnight delivery services such as Federal Express, United Parcel Service, etc., due to delays in processing receipt of such deliveries.

FOR FURTHER INFORMATION CONTACT: William J. Roberts, Jr., Senior Attorney, or Abioye E. Oyewole, CRB Program Specialist. Telephone (202) 707-8380. Telefax: (202) 252-3423.

SUPPLEMENTARY INFORMATION: Each year cable systems submit royalties to the Copyright Office under the section 111 statutory license for the retransmission to their subscribers of over-the-air television and radio broadcast signals. These royalties are, in turn, distributed in one of two ways to copyright owners whose works were included in a retransmission and who timely filed a claim for royalties. The copyright owners may either negotiate the terms of a settlement as to the division of the royalty funds, or the Copyright Royalty Board (the “Board”) may conduct a proceeding to determine the distribution of the royalties that remain in controversy. See 17 U.S.C. Chapter 8.

By motion received on August 31, 2005, representatives of the Phase I claimant categories (the “Phase I Parties”)¹ have asked the Board to authorize a partial distribution of 50% of the 2003 cable royalty funds prior to October 31, 2005. In addition, they request that the Board publish a notice in the Federal Register requesting comments as to the extent of controversies, either at Phase I or Phase II, that exist over the distribution of the 2003 cable royalties. This Federal Register notice responds to these requests.

¹ The “Phase I Parties” are the Program Suppliers, the Joint Sports Claimants, the Public Television Claimants, the National Association of Broadcasters, the American Society of Composers, Authors and Publishers, Broadcast Music, Inc., SESAC, Inc., the Canadian Claimants, the Devotional Claimants and National Public Radio.

Accordingly, the Board seeks comments on whether any controversy exists that would preclude the distribution of 50% of the 2003 cable royalty funds to the Phase I Parties.

The Board also seeks comment on the existence and extent of any controversies to the 2003 cable royalty funds, either at Phase I or Phase II, with respect to the 50% of those funds that would remain if the partial distribution is granted. In Phase I of a cable royalty distribution, royalties are distributed to certain categories of broadcast programming that have been retransmitted by cable systems. The categories have traditionally been movies and syndicated television series, sports programming, commercial and noncommercial broadcaster-owned programming, religious programming, music and Canadian programming. In Phase II of a cable royalty distribution, royalties are distributed to claimants within each of the Phase I categories. Any party submitting comments on the existence of a Phase II controversy must identify the category or categories in which there is a dispute, and the extent of the controversy or controversies.

The Board must be advised of the existence and extent of all Phase I and Phase II controversies by the end of the comment period. It will not consider any controversies that come to its attention after the close of that period.

Dated: September 8, 2005.
Bruce G. Forrest,
Interim Chief Copyright Royalty Judge.

[FR Doc. 05-18128 Filed 9-12-05; 8:45 am]

BILLING CODE 1410-72-P